DEPARTMENT OF TRANSPORTATION

Maritime Administration

[Docket No. MARAD-2025-0433]

Request for Comments on the Renewal of a Previously Approved Collection: U.S. Merchant Marine Academy Candidate Application for Admission

AGENCY: Maritime Administration, DOT.

ACTION: Notice.

SUMMARY: The Maritime Administration (MARAD) invites public comments on its intention to request Office of Management and Budget (OMB) approval to renew an information collection in accordance with the Paperwork Reduction Act of 1995. The proposed collection OMB 2133-0010 (U.S. Merchant Marine Academy (USMMA) Candidate Application for Admission) is being updated to reflect the new Student Information System (SIS), an online application and admissions portal. SIS is an alternative to the paper-based application and admissions process. MARAD is required to publish this notice in the Federal Register to obtain comments from the public and affected agencies.

ADDRESSES: Written comments and recommendations for the proposed information collections should be sent within 30 days of publication of this notice to www.reginfo.gov/public/do/PRAMain. Find this information collection by selecting “Currently under 30-day Review—Open for Public Comments” or by using the search function.

FOR FURTHER INFORMATION CONTACT: Michael Bedryk, 516-726-5641, Office of Admissions, U.S. Merchant Marine Academy, 300 Steamboat Rd., Kings Point, NY 11024, Email: bedrykm@usmma.edu.

SUPPLEMENTARY INFORMATION:

Title: U.S. Merchant Marine Academy Candidate Application for Admission

OMB Control Number: 2133-0010.

Type of Request: Extension with change of a previously approved information collection.

Abstract: The proposed collection OMB 2133- 0010 (U.S. Merchant Marine Academy (USMMA) Candidate Application for Admission) is used by the Office of Admissions and the Candidate Evaluation Board (CEB) to select the best qualified candidates for admission to the USMMA.

Respondents: Applicants for admission to the USMMA, school officials, and other evaluators submitting supplemental on behalf of applicants.

Affected Public: USMMA Applicants.

Estimated Number of Respondents: 2,000.

Estimated Number of Responses: 2,000.

Estimated Hours per Response: 3.

Annual Estimated Total Annual Burden Hours: 6,000.

Frequency of Response: Once annually.

A 60-day Federal Register Notice soliciting comments on this information collection was published on May 29, 2025 (90 FR 22825).

(Authority: The Paperwork Reduction Act of 1995; 44 U.S.C. Chapter 35, as amended; and 49 CFR 1.49.)

By Order of the Maritime Administration.
T. Mitchell Hudson, Jr.,
Secretary, Maritime Administration.

[FR Doc. 2025-15601 Filed 8-14-25; 8:45 am]

BILLING CODE 4910-81-P